DEPARTMENT OF TRANSPORTATION

Federal Aviation Administration

Sixteenth RTCA SC-209 Working Session and Plenary Session Joint With EUROCAE WG 49, WG 51, and RTCA SC-186

AGENCY: Federal Aviation Administration (FAA), U.S. Department of Transportation (DOT).

ACTION: Sixteenth RTCA SC-209 Working Session and Plenary Session joint with EUROCAE WG 49, WG 51, and RTCA SC-186.

SUMMARY: The FAA is issuing this notice to advise the public of a meeting of Sixteenth RTCA SC-209 Working Session and Plenary Session joint with EUROCAE WG 49, WG 51, and RTCA SC-186.

DATES: The meeting will be held October 17-21, 2016, 09:00 a.m.-04:30 p.m.

ADDRESSES: The meeting will be held at: RTCA Headquarters, 1150 18th Street NW., Suite 910, Washington, DC 20036.

FOR FURTHER INFORMATION CONTACT: Al Secen at asecen@rtca.org or 202-330-0647, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C. App.), notice is hereby given for a meeting of the Sixteenth RTCA SC-209 Working Session and Plenary Session joint with EUROCAE WG 49, WG 51, and RTCA SC-186. The agenda will include the following:

Monday, October 17th, WG-1 Mode S Transponder MOPS Development

Tuesday, October 18th, WG-1 Mode S Transponder MOPS Development

Wednesday, October 19th, WG-1 Mode S Transponder MOPS Development

Thursday, October 20th, WG-1 Mode S Transponder MOPS Development

Friday, October 21st, Plenary Session (9:00 a.m.-Noon)

1. Host and Co-Chairs Welcome, Introductions, and Remarks

2. Review of Meeting Agenda

3. Review and Approval of the Minutes from Meeting #15 of SC-209

4. WG-1—ATCRBS/Mode S Transponder

Status of MOPS Revisions

5. EUROCAE WG-49—SSR Mode S Transponders

Status of MOPS Revisions

Update on European Activity

6. Other Business

7. Date, Place, and Time of Future Meetings

8. Review of Action Items

9. Adjournment

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 13, 2016.
Mohannad Dawoud,
Management & Program Analyst, Partnership Contracts Branch, ANG-A17 NextGen, Procurement Services Division, Federal Aviation Administration.

[FR Doc. 2016-22405 Filed 9-15-16; 8:45 am]

BILLING CODE 4910-13-P